DEPARTMENT OF TRANSPORTATION

National Highway Traffic Safety Administration

Automotive Fuel Economy Program; Report to Congress

The attached document, 24th Annual Report to Congress on the Automotive Fuel Economy Program, was prepared pursuant to 49 U.S.C. 32916 et seq. which requires that “the Secretary shall transmit to each House of Congress, and publish in the Federal Register, a review of the average fuel economy standards under this part.”

The 24th Annual Report to Congress on the Automotive Fuel Economy Program summarizes the fuel economy performance of the vehicle fleet and the activities of the National Highway Traffic Safety Administration (NHTSA) during 1999. Included in this report is a section summarizing rulemaking activities during 1999. This report is available on the Internet at: http://www.nhtsa.dot.gov/cars/problems/studies/fuelecon/index.html. To obtain paper copies of this document, you may contact NHTSA's Publications Ordering and Distribution Services on (202) 366-1566.

Issued on: June 28, 2000.
Stephen R. Kratzke,
Acting Associate Administrator for Safety Performance Standards.

Automotive Fuel Economy Program; Twenty-Fourth Annual Report to Congress, Calendar Year 1999

Table of Contents

Section I: Introduction

Section II: Vehicle Fuel Economy Performance and Characterisitics

A. Fuel Economy Performance by Manufacturer

B. Characteristics of the MY 1999 Passenger Car Fleet

C. Characteristics of the MY 1999 Light Truck Fleet

D. Passenger Car and Light Truck Fleet Economy Averages

E. Domestic and Import Fleet Fuel Economy Averages

Section III: 1999 Activities

A. Light Truck CAFE Standards

B. Enforcement

Section I: Introduction

The Twenty-fourth Annual Report to Congress on the Automotive Fuel Economy Program summarizes the fuel economy performance of the vehicle fleet and the activities of the National Highway Traffic Safety Administration (NHTSA) during 1999, in accordance with 49 U.S.C. 32916 et seq., which requires the submission of a report each year. Included in this report is a section summarizing rulemaking activities during 1999.

The Secretary of Transportation is required to administer a program for regulating the fuel economy of new passenger cars and light trucks in the United States market. The authority to administer the program was delegated by the Secretary to the Administrator of NHTSA, 49 CFR 1.50(f).

NHTSA's responsibilities in the fuel economy area include:

(1) Establishing and amending average fuel economy standards for manufacturers of passenger cars and light trucks, as necessary;

(2) Promulgating regulations concerning procedures, definitions, and reports necessary to support the fuel economy standards;

(3) Considering petitions for exemption from established fuel economy standards by low volume manufacturers (those producing fewer than 10,000 passenger cars annually worldwide) and establishing alternative standards for them;

(4) Preparing reports to Congress annually on the fuel economy program;

(5) Enforcing fuel economy standards and regulations; and

(6) Responding to petitions concerning domestic production by foreign manufacturers, and other matters.

Passenger car fuel economy standards were established by Congress for Model Year (MY) 1985 and thereafter at a level of 27.5 miles per gallon (mpg). NHTSA is authorized to amend the standard above or below that level. The agency has established light truck standards each year, but Congress has mandated through the DOT Appropriations Acts for fiscal years 1996 through 2000, no increase from the MY 1996 value of 20.7 mpg for MYs 1998 through 2002. All current standards are listed in Table I-1.

Table I-1.—Fuel Economy Standards for Passenger Cars and Light Trucks Model Years 1978 Through 2001
[In mpg]
Model year | Passenger cars | Light Trucks (¹): Two-wheel drive | Light Trucks (¹): Four-wheel drive | Light Trucks (¹): Combined (²) (³)
1978 | (⁴)18.0 |  |  |
1979 | (⁴)19.0 | 17.2 | 15.8 |
1980 | (⁴) 20.0 | 16.0 | 14.0 | (⁵)
1981 | 22.0 | (⁶)16.7 | 15.0 | (⁵)
1982 | 24.0 | 18.0 | 16.0 | 17.5
1983 | 26.0 | 19.5 | 17.5 | 19.0
1984 | 27.0 | 20.3 | 18.5 | 20.0
1985 | (⁴) 27.5 | (⁷)19.7 | (⁷)18.9 | (⁷)19.5
1986 | (⁸) 26.0 | 20.5 | 19.5 | 20.0
1987 | (⁹) 26.0 | 21.0 | 19.5 | 20.5
1988 | (⁹) 26.0 | 21.0 | 19.5 | 20.5
1989 | (\10\) 26.5 | 21.5 | 19.0 | 20.5
1990 | (⁴) 27.5 | 20.5 | 19.0 | 20.0
1991 | (⁴) 27.5 | 20.7 | 19.1 | 20.2
1992 | (⁴) 27.5 |  |  | 20.2
1993 | (⁴) 27.5 |  |  | 20.4
1994 | (⁴) 27.5 |  |  | 20.5
1995 | (⁴) 27.5 |  |  | 20.6
1996 | (⁴) 27.5 |  |  | 20.7
1997 | (⁴) 27.5 |  |  | 20.7
1998 | (⁴) 27.5 |  |  | 20.7
1999 | (⁴) 27.5 |  |  | 20.7
2000 | (⁴) 27.5 |  |  | 20.7
2001 | (⁴) 27.5 |  |  | 20.7
¹ Standards for MY 1979 light trucks were established for vehicles with a gross vehicle weight rating (GVWR) of 6,000 pounds or less. Standards for MY 1980 and beyond are for light trucks with a GVWR of 8,500 pounds or less.
² For MY 1979, light truck manufacturers could comply separately with standards for four-wheel drive, general utility vehicles and all other light trucks, or combine their trucks into a single fleet and comply with the standard of 17.2 mpg.
³ For MYs 1982-1991, manufacturers could comply with the two-wheel and four-wheel drive standards or could combine all light trucks and comply with the combined standard.
⁴ Established by Congress in Title V of the Motor Vehicle Information and Cost Savings Act.
⁵ A manufacturer whose light truck fleet was powered exclusively by basic engines which were not also used in passenger cars could meet standards of 14 mpg and 14.5 mpg in MYs 1980 and 1981, respectively.
⁶ Revised in June 1979 from 18.0 mpg.
⁷ Revised in October 1984 from 21.6 mpg for two-wheel drive, 19.0 mpg for four-wheel drive, and 21.0 mpg for combined.
⁸ Revised in October 1985 from 27.5 mpg.
⁹ Revised in October 1986 from 27.5 mpg.
¹⁰ Revised in September 1988 from 27.5 mpg.

Section II: Vehicle Fuel Economy Performance and Characteristics

A. Fuel Economy Performance by Manufacturer

The fuel economy achievements for domestic and foreign-based manufacturers in MY 1999 were updated to include final EPA calculations, where available, since the publication of the Twenty-third Annual Report to the Congress. These fuel economy achievements and current projected data for MY 1999 are listed in Tables II-1 and II-2.

Overall fleet fuel economy for passenger cars was 28.3 mpg in MY 1999, a decrease of 0.4 mpg from the MY 1998 level. For MY 1999, CAFE values increased above MY 1998 levels for six of 17 passenger car manufacturers' fleets. (See Table II-1.) These six companies accounted for more than 12 percent of the total MY 1999 production. Manufacturers continued to introduce new technologies and more fuel-efficient models, and some larger, less fuel-efficient models. For MY 1999, the overall domestic manufacturers' fleet average fuel economy was 28.2 mpg. For MY 1999, Honda and Toyota domestic passenger car CAFE values rose 4.9 mpg and 4.7 mpg from their 1998 levels, while Ford/Mazda and General Motors fell 0.4 mpg and 0.2 mpg, respectively, from their MY 1998 levels. Nissan remained at its MY 1998 level of 29.9 mpg. Overall, the domestic manufacturers' combined CAFE increased 0.1 mpg above the MY 1998 level.

Table II-1.—Passenger Car Fuel Economy Performance by Manufacturer* Model Years 1998 and 1999
Manufacturer | Model year CAFE (mpg): 1998 | Model year CAFE (mpg): 1999
Domestic:
Chrysler | 28.7 |
DaimlerChrysler |  | 27.5
Ford/Mazda | 27.6 | 27.2
General Motors | 27.8 | 27.6
Honda | 29.5 | 34.4
Mitsubishi |  | 28.8
Nissan | 29.9 | 29.9
Toyota | 28.6 | 33.3
Sales weighted average (domestic) | 28.1 | 28.2
Import:
BMW | 25.4 | 25.4
Chrysler | 25.8 |
DaimlerChrysler |  | 26.3
Fiat | 13.5 | 13.6
Ford/Mazda | 28.9 | 30.1
General Motors | 28.9 | 27.9
Honda | 34.6 | 29.4
Hyundai | 31.5 | 31.4
Kia | 30.9 | 31.2
Mercedes-Benz | 27.2 |
Mitsubishi | 29.7 | 29.6
Nissan | 30.7 | 29.5
Porsche | 24.5 | 24.2
Subaru | 27.6 | 27.5
Suzuki | 35.9 | 35.4
Toyota | 30.7 | 28.0
Volvo | 25.6 | 26.2
Volkswagen | 28.7 | 28.2
Sales weighted average (import) | 30.0 | 28.4
Total fleet average | 28.7 | 28.3
Fuel economy standards | 27.5 | 27.5

Table II-2.—Light Truck Fuel Economy Performance by Manufacturer Model Years 1998 and 1999
Manufacturer | Model year CAFE (mpg) combined: 1998 | Model year CAFE (mpg) combined: 1999
Chrysler | 20.5 |
DaimlerChrysler |  | 20.7
Ford/Mazda | 20.1 | 20.4
General Motors | 21.1 | 20.0
Honda | 27.1 | 24.2
Isuzu | 21.4 | 21.5
Kia | 24.4 | 24.2
Land Rover | 17.2 | 17.0
Mercedes-Benz | 21.3 |
Mitsubishi | 22.5 | 22.3
Nissan | 22.2 | 21.1
Suzuki | 27.4 | 24.3
Toyota | 23.5 | 22.6
Volkswagen |  | 19.1
Total fleet average | 20.9 | 20.7
Fuel economy standards | 20.7 | 20.7

In MY 1999, the fleet average fuel economy for import passenger cars decreased by 1.6 mpg from the MY 1998 CAFE level to 28.4 mpg. Five of the 16 import car manufacturers increased their CAFE values between MYs 1998 and 1999. Figure II-1 illustrates the changes in total new passenger car fleet CAFE from MY 1978 to MY 1999.

The total light truck fleet CAFE decreased 0.2 mpg below the MY 1998 CAFE level of 20.9 mpg (see Table II-2). Figure II-2 illustrates the trends in total light truck fleet CAFE from MY 1979 to MY 1999.

Six passenger cars (BMW, DaimlerChrysler import, Fiat, Ford/Mazda domestic, Porsche and Volvo) and four light truck manufacturers (Ford/Mazda, General Motors, Land Rover and Volkswagen) are projected to fail to achieve the levels of the MY 1999 CAFE standards. However, NHTSA is not yet able to determine which of these manufacturers may be liable for civil penalties for non-compliance. Some MY 1999 CAFE values may change when final figures are provided to NHTSA by EPA in mid-2000. In addition, several manufacturers are not expected to pay civil penalties because the credits they earned by exceeding the fuel economy standards in earlier years offset later shortfalls. Other manufacturers may file carryback plans to demonstrate that they anticipate earning credits in future model years to offset current deficits.

Mitsubishi achieved 75 percent domestic content for its United States built passenger cars to become the fourth foreign-based manufacturer with a domestic fleet. These domestic-built vehicles do not appreciably affect the domestic fleet CAFE.

BILLING CODE 4910-59-P

In November 1998, a domestic manufacturer, Chrysler Corporation, merged with an import manufacturer, Daimler-Benz AG, to form a new company, DaimlerChrysler, making it the fifth-largest automaker in the world.

B. Characteristics of the MY 1999 Passenger Car Fleet

The characteristics of the MY 1999 passenger car fleet reflect a continuing trend toward satisfying consumer demand for higher performance cars. (See Table II-3.) From MY 1998 to MY 1999, horsepower/100 pounds, a measure of vehicle performance, increased from 5.11 to 5.30 for domestic passenger cars and from 4.93 to 5.03 for import passenger cars. The total fleet average for passenger cars increased from 5.05 horsepower/100 pounds in MY 1998 to 5.21 in MY 1999, the highest level in the 43 years for which the agency has data. Compared with MY 1998, the average curb weight for MY 1999 increased by five pounds for the domestic fleet and increased by 108 pounds for the import fleet. The average curb weight for the total fleet of passenger cars increased from 3,075 pounds in MY 1998 to 3,116 pounds in MY 1999, primarily because of the average curb weight increase for the import fleet. Average engine displacement increased from 174 to 176 cubic inches for domestic passenger cars and increased from 137 to 146 cubic inches for import passenger cars from MY 1998 to MY 1999.

The 0.1 mpg fuel economy improvement for the MY 1999 domestic passenger car fleet may be attributed in part to mix shifts (in the segmentation by EPA size class), improved engine technology and the use of more automatic four-speed transmissions and automatic transmissions with lockup clutches.

Table II-3.—Passenger Car Fleet Characteristics for MYs 1998 and 1999
Characteristics | Total fleet: 1998 | Total fleet: 1999 | Domestic fleet: 1998 | Domestic fleet: 1999 | Import fleet: 1998 | Import fleet: 1999
Fleet Average Fuel Economy, mpg | 28.7 | 28.3 | 28.1 | 28.2 | 30.0 | 28.4
Fleet Average Curb Weight, lbs | 3075 | 3116 | 3119 | 3124 | 2992 | 3100
Fleet Average Equivalent Test Weight, lbs | 3372 | 3418 | 3421 | 3432 | 3278 | 3392
Fleet Average Engine Displacement, cu. in | 161 | 166 | 174 | 176 | 137 | 146
Fleet Average Horsepower/Weight ratio, HP/100 lbs | 5.05 | 5.21 | 5.11 | 5.30 | 4.93 | 5.03
% of Fleet | 100 | 100 | 65.7 | 66.2 | 34.3 | 33.8
Segmentation by EPA Size Class, %
Two-Seater | 0.7 | 1.4 | 0.2 | 0.6 | 1.7 | 2.8
Minicompact | 0.4 | 0.6 | 0.0 | 0.3 | 1.2 | 1.2
Subcompact* | 16.7 | 15.6 | 10.4 | 14.7 | 28.7 | 17.4
Compact* | 35.8 | 31.7 | 35.8 | 35.1 | 35.8 | 25.1
Mid-Size* | 34.1 | 38.2 | 35.4 | 30.8 | 31.6 | 52.9
Large* | 12.3 | 12.5 | 18.2 | 18.6 | 1.0 | 0.6
Diesel Engines | 0.19 | 0.16 | 0.0 | 0.0 | 0.6 | 0.5
Turbo or Supercharged Engines | 2.0 | 4.4 | 1.2 | 3.9 | 3.6 | 5.4
Fuel Injection | 100 | 100 | 100 | 100 | 100 | 100
Front-Wheel Drive | 87.0 | 86.0 | 90.9 | 90.9 | 79.5 | 76.4
Automatic Transmissions | 86.4 | 86.0 | 90.4 | 90.8 | 78.9 | 76.6
Automatic Transmissions with Lockup Clutches | 99.2 | 99.8 | 99.0 | 99.8 | 99.8 | 99.8
Automatic Transmissions with Four or more Forward Speeds | 92.0 | 95.1 | 90.8 | 94.0 | 94.8 | 98.1
% Electric | 0.0 | 0.002 | 0.0 | 0.003 | 0.0 | 0.0
*Includes associated station wagons.

The size/class breakdown shows an increased trend primarily toward two-seater, minicompact, mid-size passenger and large cars with the reduction of subcompact and compact passenger cars for the overall fleet. The size/class mix in the domestic fleet showed a decrease in compact and mid-size passenger cars and an increase in two-seater, minicompact, subcompact and large passenger cars. The size/class mix in the import fleet showed a decrease in subcompact, compact and large passenger cars and an increase in two-seater and mid-size passenger cars. The import share of the passenger car market declined in MY 1999, as more foreign-based manufacturers achieved 75 percent domestic content for their U.S. and Canadian-assembled passenger cars.

The domestic fleet rose above its MY 1998 level in the share of turbocharged and supercharged engines. Diesel engines were only offered on certain Mercedes and Volkswagen models during MY 1999. Consequently, diesel engine shares decreased in MY 1999.

Passenger car fleet average characteristics have changed significantly since MY 1978 (the first year of fuel economy standards). (See Table II-4.) After substantial initial weight loss (from MY 1978 to MY 1982, the average passenger car fleet curb weight decreased from 3,349 to 2,808 pounds), the curb weight stabilized between 2,800 and 3,120 pounds. Table II-4 shows that the MY 1999 passenger car fleet has nearly equal interior volume and higher performance, but with more than 42 percent better fuel economy, than the MY 1978 fleet. (See Figure II-3.)

Table II-4.—New Passenger Car Fleet Average Characteristics Model Years 1978-1999
Model year | Fuel economy (mpg) | Curb weight (lbs.) | Equivalent test weight (lbs.) | Interior space (cu. ft.) | Engine size (cu. in.) | Horsepower/weight (hp/100 lb.)
1978 | 19.9 | 3349 | 3627 | 112 | 260 | 3.68
1979 | 20.3 | 3180 | 3481 | 110 | 238 | 3.72
1980 | 24.3 | 2867 | 3162 | 105 | 187 | 3.51
1981 | 25.9 | 2883 | 3154 | 108 | 182 | 3.43
1982 | 26.6 | 2808 | 3098 | 107 | 173 | 3.47
1983 | 26.4 | 2908 | 3204 | 109 | 182 | 3.57
1984 | 26.9 | 2878 | 3170 | 108 | 178 | 3.66
1985 | 27.6 | 2867 | 3177 | 108 | 177 | 3.84
1986 | 28.2 | 2821 | 3127 | 106 | 169 | 3.89
1987 | 28.5 | 2805 | 3100 | 109 | 162 | 3.98
1988 | 28.8 | 2831 | 3100 | 107 | 161 | 4.11
1989 | 28.4 | 2879 | 3181 | 109 | 163 | 4.24
1990 | 28.0 | 2908 | 3192 | 108 | 163 | 4.53
1991 | 28.4 | 2934 | 3228 | 108 | 164 | 4.42
1992 | 27.9 | 3007 | 3307 | 108 | 169 | 4.56
1993 | 28.4 | 2971 | 3328 | 109 | 164 | 4.62
1994 | 28.3 | 3011 | 3317 | 109 | 169 | 4.79
1995 | 28.6 | 3047 | 3335 | 109 | 166 | 4.87
1996 | 28.5 | 3047 | 3352 | 109 | 164 | 4.92
1997 | 28.7 | 3071 | 3364 | 109 | 164 | 4.95
1998 | 28.7 | 3075 | 3372 | 109 | 161 | 5.05
1999 | 28.3 | 3116 | 3418 | 110 | 166 | 5.21

C. Characteristics of the MY 1999 Light Truck Fleet

The characteristics of the MY 1999 light truck fleet are shown in Table II-5. Light truck manufacturers are not required to divide their fleets into domestic and import fleets based on the 75-percent domestic content threshold used for passenger car fleets. The light truck fleet is subdivided into two-wheel drive or four-wheel drive classifications.

The MY 1999 average test weight of the total light truck fleet increased by 95 pounds over that for MY 1998. The average fuel economy of the fleet decreased by 0.2 mpg to 20.7 mpg. Diesel engine usage increased slightly in light trucks to 0.05 percent in MY 1999 from 0.02 percent in MY 1998. The share of the MY 1999 two-wheel drive fleet decreased by 1.9 percent from the MY 1998 level of 57.4 percent.

CAFE levels for light trucks in the 0-8,500 pounds gross vehicle weight (GVW) class increased from 18.5 mpg in MY 1980 to 21.7 mpg in MY 1987, before declining to 20.7 mpg in MY 1999, influenced by an increase in performance. Light truck production increased from 1.9 million units in MY 1980 to 6.4 million units in MY 1999. Light trucks comprised 43 percent of the total light duty vehicle fleet production in MY 1999, nearly 2.5 times more than the share in MY 1980.

D. Passenger Car and Light Truck Fleet Economy Averages

Figure II-4 illustrates an increase in the light duty fleet (combined passenger cars and light trucks) average fuel economy through MY 1987, followed by a gradual decline. (Also, see Table II-6.) Passenger car average fuel economy remained relatively constant for MYs 1987-1999. The overall decline in fuel economy illustrates a larger decrease in car fuel economy compared to light truck fuel economy.

Table II-5.—Light Truck Fleet Characteristics for MYs 1998 and 1999
Characteristics | Total fleet: 1998 | Total fleet: 1999 | Two-wheel drive: 1998 | Two-wheel drive: 1999 | Four-wheel drive: 1998 | Four-wheel drive: 1999
Fleet Average Fuel Economy, mpg | 20.9 | 20.7 | 22.4 | 22.2 | 19.1 | 19.1
Fleet Average Equivalent Test Weight, lbs | 4435 | 4530 | 4255 | 4356 | 4679 | 4747
Fleet Average Engine Displacement, cu. in | 243 | 251 | 228 | 239 | 263 | 267
Fleet Average Horsepower/Weight ratio, HP/100 lbs | 4.23 | 4.24 | 4.20 | 4.29 | 4.26 | 4.17
% of Fleet | 100 | 100 | 57.4 | 55.5 | 42.6 | 44.5
% of Fleet from Foreign-based Manufacturers | 15.5 | 15.6 | 11.4 | 11.8 | 21.1 | 20.2
Segmentation by Type, %
Passenger Van | 18.5 | 17.1 | 31.4 | 29.9 | 1.3 | 1.2
Cargo Van | 3.3 | 3.5 | 5.6 | 6.2 | 0.2 | 0.2
Small Pickup | 7.3 | 3.2 | 12.8 | 5.8 | 0.0 | 0.0
Large Pickup:
Two-Wheel Drive | 17.1 | 17.9 | 29.7 | 32.3 | 0.0 | 0.0
Four-Wheel Drive | 13.3 | 13.7 | 0.0 | 0.0 | 31.3 | 30.9
Special Purpose:
Two-Wheel Drive | 11.8 | 14.3 | 20.6 | 25.8 | 0.0 | 0.0
Four-Wheel Drive | 28.7 | 30.2 | 0.0 | 0.0 | 67.3 | 67.8
Diesel Engines | 0.02 | 0.05 | 0.01 | 0.08 | 0.04 | 0.03
Turbo/Supercharged Engines | 0.25 | 0.52 | 0.01 | 0.08 | 0.56 | 1.1
Fuel Injection | 100 | 100 | 100 | 100 | 100 | 100
Automatic Transmissions | 86.1 | 89.8 | 85.0 | 88.6 | 87.6 | 91.3
Automatic Transmissions with Lockup Clutches | 99.3 | 99.6 | 99.1 | 99.3 | 100 | 100
Automatic Transmissions with Four or More Forward Speeds | 95.1 | 98.1 | 92.2 | 97.5 | 94.6 | 98.9
% Electric | 0.01 | 0.01 | 0.02 | 0.02 | 0.00 | 0.00

While passenger car and light truck fleet fuel economy decreased from MY 1998 to MY 1999 by 0.4 mpg and 0.2 mpg respectively, the total fleet fuel economy for MY 1999 decreased to 24.5 mpg from 24.6 mpg. The shift to light trucks for general transportation has had a significant effect on fuel consumption.

E. Domestic and Import Fleet Fuel Economy Averages

Domestic and import passenger car fleet average fuel economies have improved since MY 1978, although the increase is far more dramatic for the domestic fleet. In MY 1999, the domestic passenger car fleet average fuel economy was 28.2 mpg. The import passenger car fleet average fuel economy was 28.4 mpg. Compared with MY 1978, this reflects an increase of 9.5 mpg for domestic cars and 1.1 mpg for import cars.

Since MY 1980, the average fuel economy for the total light truck fleet and the domestic light truck manufacturers has shown overall improvement, however, both have remained below the fuel economy level for the imported light truck fleet. The import light truck average fuel economy has decreased significantly since its highest level of 27.4 mpg for MY 1981 to 22.2 mpg for MY 1996, the last year the agency divided the light truck fleet into domestic and import.

The disparity between the average CAFEs of the import and domestic manufacturers has declined in recent years as domestic manufacturers have maintained relatively stable CAFE values while the import manufacturers moved to larger vehicles, and more four-wheel drive light trucks, thus lowering their CAFE values.

Section III: 1999 Activities

A. Light Truck CAFE Standards

On April 7, 1999, NHTSA published a final rule establishing a combined standard of 20.7 mpg for light trucks for MY 2001. The Department of Transportation and Related Agencies Appropriations Act for Fiscal Year 1999, Pub. L. 105-66, precluded the agency from setting the MY 2001 standard at a level other than the level for MY 2000.

B. Enforcement

49 U.S.C. 32912(b) imposes a civil penalty of $5.50 for each tenth of a mpg by which a manufacturer's CAFE level falls short of the standard, multiplied by the total number of passenger automobiles or light trucks produced by the manufacturer in that model year. Credits earned for exceeding the standard in any of the three model years immediately prior to or subsequent to the model years in question can be used to offset the penalty.

Table III-1 shows CAFE fines paid by manufacturers in calendar year 1999. In calendar year 1999, manufacturers paid civil penalties totaling $16,275,722 for failing to comply with the fuel economy standards of 27.5 mpg for passenger cars and 20.7 mpg for light trucks in MYs 1997 and 1998.

Table III-1.—CAFE Fines Collected During Calendar Year 1999
Model year | Manufacturer | Amount fined | Date paid
1997 | Land Rover | $68 | 01/99
| Volkswagen | 176,220 | 04/99
| Lotus | 36,890 | 05/99
1998 | Fiat | 527,450 | 04/99
| Mercedes-Benz | 1,683,525 | 07/99
| BMW of North America | 13,851,569 | 12/99

[FR Doc. 00-16922 Filed 7-5-00; 8:45 am]

BILLING CODE 4910-59-P